DEPARTMENT OF HOMELAND SECURITY

Coast Guard

33 CFR Part 165

[USCG-2024-0996]

Safety Zone; Claytor Lake, Dublin, VA

AGENCY: Coast Guard, DHS.

ACTION: Notification of enforcement of regulation.

SUMMARY: The Coast Guard will enforce a safety zone in Virginia for portions of Claytor Lake to protect personnel, vessels, and the marine environment from potential hazards created by hazardous debris within the waterway due to a tropical storm. Any vessel in the regulated area must comply with directions from the Coast Guard Patrol Commander or his representative, including a Federal, State, and local officer designated by or assisting the Captain of the Port Virginia (COTP) in the enforcement of the safety zone.

DATES: The regulations in 33 CFR 165.520 will be enforced for Claytor Lake from October 30th, 2024 through January 31st, 2025.

FOR FURTHER INFORMATION CONTACT: If you have questions about this rule, call or email LCDR Justin Strassfield, Sector Virginia, Waterways Management Division, U.S. Coast Guard, Telephone: 757-668-5580, email: VirginiaWaterways@uscg.mil.

SUPPLEMENTARY INFORMATION: The Coast Guard will enforce a safety zone for Hurricanes, Tropical Storms, and other Storms with High Wind for portions of Claytor Lake from October 30th, 2024, through January 31st, 2025, to protect personnel, vessels, and the marine environment from potential hazards created by hazardous debris within the waterway due to tropical storm Helene. The safety zone is now in Port Condition RECOVERY. This action is being taken to provide for the safety of life on navigable waterways while cleanup operations are conducted. The safety zone encompasses Claytor Lake.

It is bound by the following positions: Claytor Lake: 37°02′2.4″ N, 80°39′40.7″ W; 37°04′31.5″ N 80°35′06.8″ W.

During enforcement periods, the operator of a vessel in the regulated area must comply with directions from the Coast Guard Patrol Commander, including a Coast Guard coxswain, petty officer, or other officer operating a Coast Guard vessel and a Federal, State, and local officer designated by or assisting the Captain of the Port Virginia (COTP) in the enforcement of the safety zone. To seek permission to enter, contact the COTP or the COTP's representative by VHF-FM Channel 16.

In addition to this notification of enforcement in the Federal Register, the Coast Guard plans to provide notification of this enforcement period via the Local Notice to Mariners and marine information broadcasts.

Dated: October 28, 2024.
P.M. Britton,
Captain, U.S. Coast Guard, Captain of the Port Sector Virginia.

[FR Doc. 2024-25466 Filed 10-31-24; 8:45 am]

BILLING CODE 9110-04-P